NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nature McGinn, ACA Permit Officer, Division of Polar Programs, Rm. 755, National Science Foundation, 4201 Wilson Boulevard, Arlington, VA 22230. Or by email: ACApermits@nsf.gov

SUPPLEMENTARY INFORMATION: On July 20, 2016, August 1, 2016 and August 2, 2016, the National Science Foundation published notices in the Federal Register of permit applications received. The permits were issued on September 23, 2016 to:

1. Glenn McClure—Permit No. 2017-009

2. Joseph Wilson—Permit No. 2017-006

3. Maris Wicks—Permit No. 2017-007

Nadene G. Kennedy,
Polar Coordination Specialist, Division of Polar Programs.

[FR Doc. 2016-23352 Filed 9-27-16; 8:45 am]

BILLING CODE 7555-01-P